DEPARTMENT OF TRANSPORTATION

Federal Aviation Administration

[Policy Statement No. ANM-03-115-31

Conducting Component Level Tests To Demonstrate Compliance; Correction

AGENCY: Federal Aviation Administration (FAA), DOT.

ACTION: Notice of final policy; correction.

SUMMARY: This document contains a correction to the Notice of final policy on conducting component level tests in order to demonstrate compliance with the requirements of § 25.785(b) and (d), that was published in the Federal Register on May 20, 2005 (70 FR 29374). In the “Background” section of that notice, the FAA inadvertently left out a portion of a sentence in the second paragraph. This action corrects that error.

FOR FURTHER INFORMATION CONTACT: Jan Thor, Standardization Branch, ANM-113, Transport Airplane Directorate, Aircraft Certification Service, 1601 Lind Ave. SW., Renton, WA 98055-4056, telephone: 425-227-2127.

SUPPLEMENTARY INFORMATION:

Correction of publication

In notice document (FR Doc. 05-10134), make the following correction. On page 29375, column 1, “Background” section, second paragraph, add the following words to the start of the paragraph: “The tests described therein provide a standardized approach by which each potentially”

Dated: Issued in Renton, Washington, on May 31, 2005.
Ali Bahrami,
Manager, Transport Airplane Directorate, Aircraft Certification Service.

[FR Doc. 05-11411 Filed 6-8-05; 8:45 am]

BILLING CODE 4910-13-M